DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of October 18, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Hamilton County, Indiana and Incorporated Areas
Docket No.: FEMA-B-1828
City of Noblesville | Planning Department, 16 South 10th Street, Suite 150, Noblesville, IN 46060.
Town of Cicero | Utilities Office, 150 West Jackson Street, Cicero, IN 46034.
Unincorporated Areas of Hamilton County | Hamilton County Planning Commission, One Hamilton County Square, Noblesville, IN 46060.
Perry County, Indiana and Incorporated Areas
Docket No.: FEMA-B-1828
City of Cannelton | City Hall, 610 Washington Street, Suite 120, Cannelton, Indiana 47520.
City of Tell City | City Hall, 700 Main Street, Tell City, Indiana 47586.
Unincorporated Areas of Perry County | Perry County Parks and Recreation, 65 Park Avenue, Tell City, Indiana 47586.
Lamar County, Mississippi and Incorporated Areas
Docket No.: FEMA-B-1835
Unincorporated Areas of Lamar County | Lamar County Planning Department, 144 Shelby Speights Drive, Purvis, MS 39475.
Marion County, Mississippi and Incorporated Areas
Docket No.: FEMA-B-1835
City of Columbia | City Hall, 201 2nd Street, Columbia, MS 39429.
Unincorporated Areas of Marion County | E911 Dispatch Center, 217 Broad Street, Columbia, MS 39429.
Walthall County, Mississippi and Incorporated Areas
Docket No.: FEMA-B-1835
Unincorporated Areas of Walthall County | Walthall County Courthouse, 200 Ball Avenue, Suite B, Tylertown, MS 39667.
Lincoln County, Oregon and Incorporated Areas
Docket No.: FEMA-B-1716
City of Depoe Bay | City Hall, 570 Southeast Shell Avenue, Depoe Bay, OR 97341.
City of Lincoln City | City Hall, 801 Southwest Highway 101, Lincoln City, OR 97367.
City of Newport | City Hall, 169 Southwest Coast Highway, Newport, OR 97365.
City of Siletz | City Hall, 215 West Buford Avenue, Siletz, OR 97380.
City of Toledo | City Hall, 206 North Main Street, Toledo, OR 97391.
City of Waldport | City Hall, 125 Alsea Highway, Waldport, OR 97394.
City of Yachats | City Hall, 441 North Highway 101, Yachats, OR 97498.
Confederated Tribes of Siletz Indians | Administration Building, 201 Southeast Swan Avenue, Siletz, OR 97380.
Unincorporated Areas of Lincoln County | Lincoln County Planning Department, 210 Southwest 2nd Street, Newport, OR 97365.
Marion County, Oregon and Incorporated Areas
Docket No.: FEMA-B-1828
City of Salem | 555 Liberty Street Southeast, Room 325, Salem, OR 97301.
City of Turner | 7250 3rd Street, Turner, OR 97392.
Unincorporated Areas of Marion County | 3150 Lancaster Drive Northeast, Salem, OR 97305.
Jasper County, South Carolina and Incorporated Areas
Docket No.: FEMA-B-1749
City of Hardeeville | City Hall, 205 Main Street, Hardeeville, SC 29927.
Town of Ridgeland | Town Hall, 1 Town Square, Ridgeland, SC 29936.
Unincorporated Areas of Jasper County | Jasper County Planning and Building Services, 358 3rd Avenue, Room 202, Ridgeland, SC 29936.
Austin County, Texas and Incorporated Areas
Docket No.: FEMA-B-1753
City of Bellville | City Hall, 30 South Holland Street, Bellville, TX 77418.
City of Industry | City Hall, 725 Main Street, Industry, TX 78944.
City of Sealy | Planning and Public Works Building, 405 Main Street, Sealy, TX 77474.
Town of San Felipe | Town Hall, 927 6th Street, San Felipe, TX 77473.
Unincorporated Areas of Austin County | Austin County Courthouse, 1 East Main Street, Bellville, TX 77418.

[FR Doc. 2019-11936 Filed 6-6-19; 8:45 am]

BILLING CODE 9110-12-P